DEPARTMENT OF HEALTH AND HUMAN SERVICES

National Institutes of Health

National Institute of Arthritis and Musculoskeletal and Skin Diseases; Amended Notice of Meeting

Notice is hereby given of a change in the meeting of the National Institute of Arthritis and Musculoskeletal and Skin Diseases Special Emphasis Panel, December 20, 2005, 8:30 p.m. to December 21, 2005, 5 p.m., Double Tree Rockville, 1750 Rockville Pike, Rockville, MD 20852 which was published in the Federal Register on December 21, 2005, FR70: 75826.

The meeting will be held February 8-9, 2006 from 8 a.m.-5 p.m. both days at the Bethesda Marriott (5151 Pooks Hill Road, Bethesda, MD 20814). The meeting is closed to the public.

Dated: February 6, 2006.
Anna Snouffer,
Acting Director, Office of Federal Advisory Committee Policy.

[FR Doc. 06-1259 Filed 2-10-06; 8:45 am]

BILLING CODE 4140-01-M